FEDERAL COMMUNICATIONS COMMISSION

47 CFR Part 73

[DA 05-2202; MB Docket No. 05-240; RM-11261]

Radio Broadcasting Services; Fernandina Beach and Yulee, FL

AGENCY: Federal Communications Commission.

ACTION: Proposed rule.

SUMMARY: The Audio Division seeks comment on a petition filed by Tama Radio Licenses of Jacksonville, FL, Inc., licensee of Station WJSJ(FM), Channel 287A, Fernandina Beach, Florida, proposing the reallotment of Channel 287A from Fernandina Beach to Yulee, Florida, as its first local service and modification of the Station WJSJ(FM) license accordingly. To accommodate this proposed reallotment, Petitioner also requests the relocation of the transmitter site for its FM Station WSJF, Channel 288C3, St. Augustine Beach. Channel 287A can be allotted to Yulee in conformity with the Commission's rules, provided there is a site restriction of 10.6 kilometers (6.6 miles) southeast at reference coordinates 30-34-00 NL and 81-31-30 WL. To facilitate the proposed Yulee reallotment, the transmitter site for FM Station WSJF can be relocated, consistent with the minimum distance separation requirements of Section 73.207(b) of the Commission's rules, provided there is a site restriction of 7.0 kilometers (4.3 miles) south at reference coordinates 29-46-53 NL and 81-15-25 WL. In accordance with the provisions of Section 1.420(i) of the Commission's rules, we shall not accept competing expressions of interest pertaining to the use of Channel 287A at Yulee, Florida.

DATES: Comments must be filed on or before September 19, 2005, and reply comments on or before October 4, 2005.

ADDRESSES: Federal Communications Commission, 445 Twelfth Street, SW., Washington, DC 20554. In addition to filing comments with the FCC, interested parties should serve the petitioner, as follows: Francisco R. Montero, Esq., Lee G. Petro, Esq., Counsel for Tama Radio Licenses of Jacksonville, FL, Inc., Fletcher, Heald & Hildreth, PLC, 1300 North 17th Street, 11th Floor, Arlington, Virginia 22209.

FOR FURTHER INFORMATION CONTACT: Rolanda F. Smith, Media Bureau, (202) 418-2180.

SUPPLEMENTARY INFORMATION: This is a summary of the Commission's Notice of Proposed Rule Making, MB Docket No. 05-240, adopted July 27, 2005, and released July 29, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Florida, is amended by removing Fernandina Beach, Channel 287A and by adding Yulee, Channel 287A.

Federal Communications Commission.
John A. Karousos,
Assistant Chief, Audio Division, Media Bureau.

[FR Doc. 05-16068 Filed 8-16-05; 8:45 am]

BILLING CODE 6712-01-P